DEPARTMENT OF TRANSPORTATION

Office of the Secretary

[Docket No. DOT-OST-2005-20331]

RIN 2105-AD48

Request for Public Comments and Office of Management and Budget (OMB) Approval of an Existing Information Collection (2105-0552)

AGENCY: Office of the Secretary (OST), Department of Transportation (DOT).

ACTION: Notice and request for comments.

SUMMARY: In compliance with the Paperwork Reduction Act of 1995, this notice announces that the Information Collection Request (ICR) described below has been forwarded to OMB for extension of the currently approved collection. The ICR describes the nature of the information collection and its expected burden. The Federal Register notice with a 60-day comment period soliciting comments on the following collection of information was published on October 10, 2007 (72 FR 57631). The purpose of this notice is to allow the public an additional 30 days from the date of this notice to submit comments on our application to renew ICR 2105-0552, Reports by Carriers on Incidents Involving Animals During Air Transport. The current information collection request approved by OMB expires on March 31, 2008.

DATES: Comments on this notice must be received by April 30, 2008.

ADDRESSES: You may file comments identified by the docket number DOT-OST-2005-20331 by any of the following methods:

• Federal eRulemaking Portal: Go to http://www.regulations.gov and follow the online instructions for submitting comments.

• Mail: Docket Management Facility, U.S. Department of Transportation, 1200 New Jersey Ave., SE., West Building Ground Floor, Room W12-140, Washington, DC 20590-0001.

• Hand Delivery or Courier: West Building Ground Floor, Room W12-140, 1200 New Jersey Ave., SE., between 9 a.m. and 5 p.m. ET, Monday through Friday, except Federal holidays.

• Fax: (202) 493-2251.

Instructions: You must include the agency name and docket number DOT-OST-2005-20331 or the Regulatory Identification Number (RIN) for the rulemaking at the beginning of your comment. All comments received will be posted without change to http://www.regulations.gov, including any personal information provided.

Privacy Act: Anyone is able to search the electronic form of all comments received in any of our dockets by the name of the individual submitting the comment (or signing the comment, if submitted on behalf of an association, business, labor union, etc). You may review DOT's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: Blane A. Workie, Office of the Assistant General Counsel for Aviation Enforcement and Proceedings, U.S. Department of Transportation, 1200 New Jersey Ave., SE., Washington, DC 20590, 202-366-9342, 202-366-7152 (fax), blane.workie@dot.gov (e-mail).

SUPPLEMENTARY INFORMATION: The Paperwork Reduction Act of 1995 (PRA), Public Law No. 104-13, Sec. 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On October 10, 2007, OST published a 60-day notice in the Federal Register soliciting comment on ICRs for which the agency was seeking OMB approval. 72 FR 57631. OST received no comments after issuing this notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes that the 30-day notice informs the regulated community to file relevant comments and affords the agency adequate time to digest public comments before it renders a decision. 60 FR 44978, 44983, Aug. 29, 1995. Therefore, respondents should submit their respective comments to OMB within 30 days of publication of this notice to best ensure their having full effect. 5 CFR 1320.12(c); see also 60 FR 44978, 44983, Aug. 29, 1995.

The summary below describes the nature of the information collection requirement (ICR) and the expected burden.

Title: Reports by Carriers on Incidents Involving Animals During Air Transport.

OMB Control Number: 2105-0552.

Type of Request: Extension without change of a previously approved collection.

Abstract: The requested extension of the approved control number covers the information collection request (ICR) OMB No. 2105-0552, “Reports by Carriers on Incidents Involving Animals During Air Transport,” which the Department of Transportation codified at 14 CFR 234.13. Section 234.13, which implements Section 710 of the Wendell H. Ford Aviation Investment and Reform Act for the 21st Century (AIR-21) [i.e., Public Law 106-810], requires U.S. air carriers that provide scheduled service to submit a monthly report on any incidents involving the loss, injury or death of an animal during air transport to the Department's Aviation Consumer Protection Division (ACPD). “Animal” is defined in the rule as any warm or cold blooded animal which, at the time of transportation, is being kept as a pet in a family household in the United States. The information gathered from the airline reports is published in DOT's Air Travel Consumer Report to provide the public with a valuable tool to use in choosing which air carrier to travel with when traveling with a pet.

Respondents: Air carriers that transport pets.

Estimated Number of Respondents: 30.

Frequency: 12 reports per year for each respondent

Estimated Annual Burden on Each Respondent: 12 hours a year for each respondent [time to prepare and submit each report (1 hour) multiplied by frequency (12)].

Estimated Total Burden on Respondents: 360 hours [Respondents (30) × Estimated Annual Burden on Each Respondent (12 hours per year)].

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. As noted earlier, OST published a Federal Register notice with a 60-day comment period for this ICR on Wednesday, October 10, 2007. The purpose of this notice is to allow the public an additional 30 days from the date of this notice to submit comments. A comment to OMB is best assured of having its full effect if OMB receives it within 30 days of publication of this notice in the Federal Register.

Issued in Washington, DC, on March 25, 2008.
Samuel Podberesky,
Assistant General Counsel for Aviation Enforcement and Proceedings, U.S. Department of Transportation.

[FR Doc. E8-6591 Filed 3-28-08; 8:45 am]

BILLING CODE 4910-9X-P